DEPARTMENT OF AGRICULTURE

Forest Service

Shasta-Trinity National Forest; California; Lower McCloud Fuels Management Project

AGENCY: Forest Service, USDA.

ACTION: Withdrawal of notice of intent to prepare an Environmental Impact Statement.

SUMMARY: The Shasta-Trinity National Forest is withdrawing the Notice of Intent (NOI) to prepare an Environmental Impact Statement (EIS) for the Lower McCloud Fuels Management Project. The original NOI was published in the Federal Register on March 22, 2016. No significant issues were identified during this scoping period or any other opportunity to comment. Upon further evaluation, it also appears that there are no potential significant impacts to the human environment associated with the project. As a result, the Forest is withdrawing its intent to prepare an EIS and is now preparing an Environmental Assessment (EA). All comments previously received regarding this project will be retained and considered in the development of the EA. If it is determined that the project may have significant impacts, the EIS process will be reinitiated and a NOI will be published.

FOR FURTHER INFORMATION CONTACT: Questions concerning withdrawal of the NOI should be addressed to Emelia Barnum at the following address: Shasta McCloud Management Unit, Shasta-Trinity National Forest, 204 W Alma St., Mt. Shasta, CA 96067; via phone at 530-926-9600; or via email at ebarnumfs.fed.us. Individuals and organizations that previously submitted comments on this project will remain on the project mailing list and do not need to contact the Forest.

Individuals who use telecommunication devices for the deaf (TDD) may call the Federal Information Relay Service (FIRS) at 1-800-877-8339 between 8 a.m. and 8 p.m., Eastern Time, Monday through Friday.

Dated: February 13, 2019.
Allen Rowley,
Acting Associate Deputy Chief, National Forest System.

[FR Doc. 2019-03360 Filed 2-26-19; 8:45 am]

BILLING CODE 3411-15-P